DEPARTMENT OF HEALTH AND HUMAN SERVICES

Administration for Children and Families

Submission for OMB Review; Survey of Youth Transitioning From Foster Care (New Collection)

AGENCY: Office of Planning, Research, and Evaluation, Administration for Children and Families, HHS.

ACTION: Request for public comment.

SUMMARY: The Administration for Children and Families (ACF) within the U.S. Department of Health and Human Services (HHS) is proposing to collect data on human trafficking and other victimization experiences among youth recently or currently involved in the child welfare system. The goal of the one-time survey is to better understand trafficking experiences; to identify modifiable risk and protective factors associated with trafficking victimization; and to inform child welfare policy, programs, and practice.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: ACF is proposing data collection as part of the study, “Survey of Youth Transitioning from Foster Care.” This Notice provides the opportunity to comment on a survey of youth with current or recent involvement in foster care.

Primary data collected includes a one-time survey with up to 780 youth aged 18 or 19 who were in foster care during their 17th year. The survey will be conducted in-person, with both field interviewer-administered items and Audio-Computer Assisted Self-Interview (ACASI) items that the youth will complete privately for sensitive topics. Survey questions will be focused on the youths' demographic data, trafficking and other victimization histories, internal and external assets, and risk and protective factors. Involvement with child welfare and juvenile justice systems, and utilization of other services will also be addressed in the data collection.

Respondents: Youth aged 18 or 19 who were in foster care during their 17th year.

Annual Burden Estimates

Data collection is expected to take place over 2 years.

Instrument | Total number of respondents | Annual number of respondents | Number of responses per respondent | Average burden hours per response | Annual burden hours
Survey of Youth Transitioning from Foster Care | 780 | 390 | 1 | 1.2 | 468

Estimated Total Annual Burden Hours: 468.

Authority: Section 476(a)(1-2) (42 U.S.C. 676) of the Social Security Act Part E—Federal Payments for Foster Care and Adoption Assistance.

Mary B. Jones,
ACF/OPRE Certifying Officer.

[FR Doc. 2020-04805 Filed 3-9-20; 8:45 am]

BILLING CODE 4184-25-P